DEPARTMENT OF COMMERCE

National Oceanic and Atmospheric Administration

[XRIN: 0648-XA28]

New England Fishery Management Council; Public Meetings

AGENCY: National Marine Fisheries Service (NMFS), National Oceanic and Atmospheric Administration (NOAA), Commerce.

ACTION: Notice of public meetings.

SUMMARY: The New England Fishery Management Council (Council) is scheduling a public meeting of its Habitat/Marine Protected Area (MPA)/Ecosystem Advisory Panel and its Habitat/MPA/Ecosystem Committee, in June, 2007, to consider actions affecting New England fisheries in the exclusive economic zone (EEZ). Recommendations from these groups will be brought to the full Council for formal consideration and action, if appropriate.

DATES: These meetings will be held on Tuesday, June 5, 2007, at 9 a.m. and 1 p.m. respectively.

ADDRESSES: These meetings will be held at the Hilton Mystic Hotel, 20 Coogan Boulevard, Mystic, CT 06355; telephone: (860) 572-0731; fax: (860) 572-0328.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The panel's schedule and agenda for the following meeting is as follows:

1. Tuesday, June 5, 2007, from 9 a.m. - 12 p.m.; The Advisory Panel will meet to review the formal public comments received on Phase 1 of the Essential Fish Habitat (EFH) Omnibus Amendment and consider making recommendations to the Habitat/MPA/Ecosystem Oversight Committee on the alternatives contained therein.

2. Tuesday, June 5, 2007 at 1 p.m.; As directed by the Council and with the assistance of the Northeast Fisheries Science Center (NEFSC), the Committee will begin discussions on the delineation of sub-ecoregions for use in ecosystem approaches to fisheries management. The committee will also review the formal public comments received on Phase 1 of the EFH Omnibus Amendment and the alternatives contained therein and will make recommendations to the Council on Phase 1 final actions for consideration at the June 19-21, 2007 Council meeting in Portland, ME.

Although non-emergency issues not contained in this agenda may come before these groups for discussion, those issues may not be the subject of formal action during these meetings. Action will be restricted to those issues specifically listed in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to Paul J. Howard, Executive Director, at (978) 465-0492, at least 5 days prior to the meeting date.

Authority: 16 U.S.C. 1801 et seq.

Dated: May 10, 2007.
Tracey L. Thompson,
Acting Director, Office of Sustainable Fisheries, National Marine Fisheries Service.

[FR Doc. E7-9253 Filed 5-14-07; 8:45 am]

BILLING CODE 3510-22-S